DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting an administrative supplement of up to $900,000 for one grant recipient funded in FY 2019 under the National Center of Excellence for Infant and Early Childhood Mental Health Consultation, Notice of Funding Opportunity (NOFO) SM-19-010, with a project end date of April 29, 2024. The supplemental funding is to support Project LAUNCH and Infant and Early Childhood Mental Health grant recipients by: provide training and technical assistance via individual/grantee-level technical assistance, ECHO style learning communities, peer-to-peer learning, expert presentations, and development of resources on advancing best practices; assist grant recipients in working with state-level systems and leaders to integrate innovations into ongoing initiatives, policies, and sustainable funding streams: assist grant recipients with the development of new early childhood efforts (e.g., statewide mental health consultation systems, infant mental health associations, offices of early childhood mental health); support grant recipients with sharing best practices and advances in infant and early childhood mental health with the early childhood field through webinars, presentations at conferences, and/or development of materials about specific grant programs that can be shared with local, tribal, and state stakeholders; and, conduct a virtual grantee meeting or policy academy to engage all grant recipients in peer learning and technical assistance.

FOR FURTHER INFORMATION CONTACT: Brooke Sims, Government Project Officer, Substance Abuse and Mental Health Services Administration, 5600 Fishers Lane, Rockville, MD 20857, telephone 240-276-1861; brooke.sims@samhsa.hhs.gov.

SUPPLEMENTARY INFORMATION:

Funding Opportunity Title: FY 2019 National Center of Excellence for Infant and Early Childhood Mental Health Consultation SM-19-010.

Assistance Listing Number: 93.243.

Authority: Section 520A of the Public Health Service Act, as amended.

Justification: Eligibility for this supplemental funding is limited to Georgetown University, which was funded in FY 2019 under the National Center of Excellence for Infant and Early Childhood Mental Health Consultation grant program, NOFO SM-18-010. The recipient has special expertise in providing training and technical assistance to support Project LAUNCH and IECMH grant recipients in improving outcomes for children through service provision to children and families, mental health consultation to early childhood programs, and training early childhood providers and clinicians.

This is not a formal request for application. Assistance will only be provided to the COE-IECMHC grant recipient based on the receipt of a satisfactory application and associated budget that is approved by a review group.

Dated: April 19, 2023.
Ann Ferrero,
Public Health Analyst.

[FR Doc. 2023-08651 Filed 4-25-23; 8:45 am]

BILLING CODE 4162-20-P